DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 30174-30175, dated May 24, 2011) is amended to reflect the reorganization of Procurement and Grants Office.

Section C-B, Organization and Functions, is hereby amended as follows:

Delete in their entirety the title and the functional statement for the Materiel Management Activity (CAJH12), Office of the Director (CAJH1).

Following the title and functional statement for the Acquisition & Assistance Branch VIII (CAJHV), insert the following:

Logistics Management Branch (CAJHW). (1) Develops and implements CDC-wide policies, procedures, and criteria necessary to comply with federal and departmental regulations governing personal property, transportation, shipping, and fleet management; (2) determines, recommends, and implements procedural changes needed to maintain effective management of CDC property including but not limited to: inventory control; property records; receipt, delivery, tracking, shipping and return of CDC materiel; property reutilization and disposal; transportation of freight; and CDC's vehicle fleet; (3) provides audits, training and technical assistance to CDC Centers/Institute/Offices on property, transportation, shipping, and fleet management; (4) determines the requirement for and serves as the functional proponent for the design, test, and implementation of logistics management systems; (5) represents CDC on inter- and intra-departmental committees relevant to logistical functions; (6) serves as the CDC liaison to HHS and other federal agencies on logistical matters such as property, transportation and traffic management; and (7) establishes branch goals, objectives and priorities, and assures consistency and coordination with overall Procurement and Grants Office logistical goals and objectives.

Dated: May 26, 2011.
Carlton Duncan,
Acting Chief Operating Officer Centers for Disease Control and Prevention.

[FR Doc. 2011-14126 Filed 6-9-11; 8:45 am]

BILLING CODE 4160-18-M